DEPARTMENT OF THE INTERIOR

Fish and Wildlife Service

Notice of Intent To Prepare a Comprehensive Conservation Plan and Associated Environmental Impact Statement for the Upper Mississippi River National Wildlife and Fish Refuge Complex (Refuge Complex)

AGENCY: U.S. Fish and Wildlife Service, Interior.

ACTION: Notice of Intent to prepare a Comprehensive Conservation Plan and associated Environmental Impact Statement for the Upper Mississippi River National Wildlife and Fish Refuge Complex.

SUMMARY: This notice advises the public that the U.S. Fish and Wildlife Service (Service) intends to prepare a Comprehensive Conservation Plan and an associated Environmental Impact Statement for the Upper Mississippi River National Wildlife and Fish Refuge Complex. The Refuge Complex includes the Upper Mississippi River National Wildlife and Fish Refuge in Minnesota, Wisconsin, Iowa, and Illinois; the Trempealeau National Wildlife Refuge in Wisconsin; and the Driftless Area National Wildlife Refuge in Iowa. The Service is furnishing this notice in compliance with Service Comprehensive Conservation Plan policy and the National Environmental Policy Act and implementing regulations to achieve the following: (1) Advise other agencies and the public of our intentions; (2) Obtain suggestions and information on the scope of issues, opportunities, and concerns for inclusion in the Comprehensive Conservation Plan and Environmental Impact Statement; and (3) Solicit information from the public about archaeological sites, buildings and structures, historic places, cemeteries, and traditional use sites that could influence decisions about management of the Refuge.

DATES: Beginning in August 2002, the Service will solicit information from the public via public meetings, workshops, focus groups, and written comments. Special mailings, newspaper articles, radio announcements, and the Services Web site http://midwest.fws.gov/planning/uppermisstop.htm will inform people of the times and places of public involvement opportunities.

FOR FURTHER INFORMATION CONTACT: Address comments and requests for additional information to: Thomas Magnuson, Project Manager, U.S. Fish and Wildlife Service, 1 Federal Drive, Fort Snelling, Minnesota 55111. Telephone: 1-800-247-1247 extension 5467.

SUPPLEMENTARY INFORMATION: It is Service policy to have all lands within the National Wildlife Refuge System managed in accordance with an approved Comprehensive Conservation Plan. The Comprehensive Conservation Plan will guide management decisions and identify refuge goals, objectives, and strategies for achieving refuge purposes. Public input into this planning process is encouraged. The Comprehensive Conservation Plan will provide other agencies and the public with a clear understanding of the desired future conditions of the Refuge Complex and how the Service will implement management strategies.

The Upper Mississippi River National Wildlife and Fish Refuge was established by public law in 1924 to protect and preserve habitats for migratory birds, fish, and a variety of other wildlife. The refuge extends 261 miles along the Mississippi River from the Chippewa River in Wisconsin almost to Rock Island, Illinois. It encompasses approximately 230,000 acres in parts of Minnesota, Wisconsin, Iowa, and Illinois and is a component of the Service-managed National Wildlife Refuge System. Parts of 19 counties and two Army Corps of Engineers districts are included in the Refuge. More than half of the land within the Refuge is owned by the Army Corps of Engineers. Those lands are managed by the Refuge under a cooperative agreement.

The Trempealeau Wildlife Refuge was established in 1936 to provide breeding and migration habitat for migratory birds and other wildlife. It is located in Buffalo and Trempealeau counties Wisconsin, and currently consists of 5,754 acres of land.

The Driftless National Wildlife Refuge was established in 1989 to protect and enhance populations of the federally endangered Iowa Pleistocene snail and federally threatened Northern monkshood plant. It is located in Clayton, Dubuque, Jackson, and Allamakee counties, Iowa, and currently consists of 775 acres of land.

Dated: May 2, 2002.
Marvin Moriarty,
Acting Regional Director, Region 3.

[FR Doc. 02-13288 Filed 5-29-02; 8:45 am]

BILLING CODE 4310-55-M